DEPARTMENT OF DEFENSE

Department of the Air Force

[Docket ID USAF-2014-0028]

Privacy Act of 1974; System of Records

AGENCY: Department of the Air Force, DoD.

ACTION: Notice to delete two Systems of Records.

SUMMARY: The Department of the Air Force is deleting two systems of records notices in its existing inventory of record systems subject to the Privacy Act of 1974, as amended. The system notices are entitled “F036 AETC U, Flying Training Records—Student” and “F044 AETC A, Drug Abuse Control Case Files”.

DATES: Comments will be accepted on or before October 27, 2014. This proposed action will be effective the day following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air, Air Force Privacy Act Office, Office of Warfighting Integration and Chief Information officer, ATTN: SAF/CIO A6, 1800 Air Force Pentagon, Washington, DC 20330-1800, or by phone at (571) 256-2515.

SUPPLEMENTARY INFORMATION: The Department of the Air Force systems of records notices subject to the Privacy Act of 1974, as amended, has been published in the Federal Register and are available from the address in FOR FURTHER INFORMATION CONTACT or at the Defense Privacy and Civil Liberties Web site at http://dpclo.defense.gov/. The Department of the Air Force proposes to delete two systems of records notices from its inventory of record systems subject to the Privacy Act of 1974 as amended. The proposed deletions are not within the purview of subsection (r) of the Privacy Act of 1974, as amended, which requires the submission of a new or altered system report.

Dated: September 19, 2014.
Aaron Siegel,
Alternate OSD Federal Register Liaison Officer, Department of Defense.

Deletion:

F044 AETC A

System name:

Drug Abuse Control Case Files (February 24, 2010, 75 FR 8313)

Reason:

The position which provided this service was deleted from the Unit Manpower Document in October 2012. A system of records did not exist and was not maintained for any related correspondence and no collection of records was ever made.

Deletion:

F036 AETC U

System name:

Flying Training Records—Student (June 11, 1997, 62 FR 31793)

Reason:

This system and its records are a duplicate of records maintained in a system of records covered under F036 AETC Y, Training Integration Management System (TIMS) Records (November 12, 2008, 73 FR 66873) and F036 AF AETC B, Graduate Training Integration Management System (GTIMS) (June 30, 2009, 74 FR 31261).

[FR Doc. 2014-22753 Filed 9-24-14; 8:45 am]

BILLING CODE 5001-06-P